ENVIRONMENTAL PROTECTION AGENCY

[FRL-9150-8]

Adequacy Status of Motor Vehicle Emissions Budgets In Submitted San Joaquin Valley PM2.5 Reasonable Further Progress and Attainment Plan for Transportation Conformity Purposes; CA

AGENCY: Environmental Protection Agency (EPA).

ACTION: Notice of adequacy and inadequacy.

SUMMARY: In this notice, EPA is notifying the public that the Agency has found that the motor vehicle emissions budgets for the years 2009 and 2012 from the San Joaquin Valley 2008 PM2.5 Plan are adequate for transportation conformity purposes. In this notice, EPA is also notifying the public that the Agency has found that the motor vehicle emissions budgets for the year 2014 from the San Joaquin Valley 2008 PM2.5 Plan are inadequate for transportation conformity purposes. The San Joaquin Valley 2008 PM2.5 Plan was submitted to EPA on June 30, 2008 by the California Air Resources Board as a revision to the California State Implementation Plan and includes reasonable further progress and attainment demonstrations for the 1997 annual and 24-hour PM2.5 national ambient air quality standards. As a result of our adequacy findings, the San Joaquin Valley Metropolitan Planning Organizations and the U.S. Department of Transportation must use the adequate budgets, and cannot use the inadequate budgets, for future conformity determinations.

DATES: This finding is effective May 27, 2010.

FOR FURTHER INFORMATION CONTACT: Frances Wicher, U.S. EPA, Region IX, Air Division AIR-2, 75 Hawthorne Street, San Francisco, CA 94105-3901; (415) 972-3957 or wicher.frances@epa.gov.

SUPPLEMENTARY INFORMATION: Throughout this document, whenever “we,” “us,” or “our” is used, we mean EPA.

Today's notice is simply an announcement of a finding that we have already made. EPA Region IX sent a letter to California Air Resources Board (CARB or the State) on April 23, 2010 stating that the motor vehicle emissions budgets in the submitted San Joaquin Valley 2008 PM2.5 Plan for the reasonable further progress (RFP) milestone years of 2009 and 2012 are adequate. The finding is available at EPA's conformity Web site: http://www.epa.gov/otaq/stateresources/transconf/adequacy.htm. The adequate motor vehicle emissions budgets are provided in the following table:

SJV PM2.5 Plan Motor Vehicle Emissions Budgets Found Adequate
[Annual average, tons per day]
| 2009: PM2.5 | 2009: NOX | 2012: PM2.5 | 2012: NOX
Fresno | 2.2 | 56.5 | 1.9 | 44.2
Kern (SJV) | 3.4 | 87.7 | 3.0 | 74.2
Kings | 0.7 | 17.9 | 0.6 | 14.6
Madera | 0.6 | 14.1 | 0.5 | 11.4
Merced | 1.5 | 33.6 | 1.2 | 26.7
San Joaquin | 1.6 | 39.1 | 1.4 | 32.8
Stanislaus | 1.0 | 25.8 | 0.9 | 20.8
Tulare | 0.9 | 23.3 | 0.8 | 19.5

Our letter dated April 23, 2010 also states that budgets for the attainment year of 2014 are inadequate for transportation conformity purpose. The State has included additional on-road mobile source emissions reductions in the budgets for 2014 from the 2007 State Strategy for the California State Implementation Plan (SIP). The adequate budgets include no such reductions but rather reflect emissions reductions from CARB rules that have already been adopted. EPA has determined that the 2014 budgets are inadequate because they include new emission reductions that do not result from specific or enforceable control measures. As a result, three of the transportation conformity rule's adequacy criteria are not met (40 CFR 93.118(e)(4)(iii), (iv), and (v)) for these budgets. The inadequate motor vehicle emissions budgets are provided in the following table:

SJV PM2.5 Plan Motor Vehicle Emissions Budgets Found Inadequate
[Annual average, tons per day]
| 2014: PM2.5 | 2014: NOX
Fresno | 1.1 | 26.0
Kern (SJV) | 1.4 | 41.6
Kings | 0.3 | 8.1
Madera | 0.3 | 6.7
Merced | 0.6 | 14.8
San Joaquin | 0.9 | 20.3
Stanislaus | 0.5 | 12.4
Tulare | 0.5 | 12.2

Receipt of the motor vehicle emissions budgets in the San Joaquin Valley 2008 PM2.5 Plan was announced on EPA's transportation conformity Web site on August 19, 2008. We received no comments in response to the adequacy review posting. The finding is available at EPA's transportation conformity Web site: http://www.epa.gov/otaq/stateresources/transconf/adequacy.htm.

Transportation conformity is required by Clean Air Act section 176(c). EPA's conformity rule requires that transportation plans, transportation improvement programs, and projects conform to SIPs and establishes the criteria and procedures for determining whether or not they do conform. Conformity to a SIP means that transportation activities will not produce new air quality violations, worsen existing violations, or delay timely attainment of the national ambient air quality standards.

The criteria by which we determine whether a SIP's motor vehicle emission budgets are adequate for conformity purposes are outlined in 40 CFR 93.118(e)(4) which was promulgated in our August 15, 1997 final rule (62 FR 43780, 43781-43783). We have further described our process for determining the adequacy of submitted SIP budgets in our July 1, 2004 final rule (69 FR 40004, 40038), and we used the information in these resources in making our adequacy determination. Please note that an adequacy review is separate from EPA's completeness review, and should not be used to prejudge EPA's ultimate approval action for the SIP. Even if we find a budget adequate, the SIP could later be disapproved.

Authority: 42 U.S.C. 7401 et seq.

Dated: May 5, 2010.
Jared Blumenfeld,
Regional Administrator, Region IX.

[FR Doc. 2010-11295 Filed 5-11-10; 8:45 am]

BILLING CODE 6560-50-P